DEPARTMENT OF TRANSPORTATION

Federal Aviation Administration

Notice of Intent To Rule on Request To Release Airport Property at Pearland Regional Airport, Houston, TX

AGENCY: Federal Aviation Administration (FAA), DOT.

ACTION: Notice of request to release airport property.

SUMMARY: The FAA proposes to rule and invites public comment on the release of land at the Pearland Regional Airport in accordance with Title 49, United States Code, Section 47153.

DATES: Comments must be received on or before November 14, 2005.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. A.M. Rivera, Airport Manager, at the following address: Pearland Regional Airport, 17622 Airfield Lane, Pearland, TX 77581.

FOR FURTHER INFORMATION CONTACT: Mr. Ben Guttery, Senior Program Manager, Federal Aviation Administration, Texas Airports Development Office, ASW-650, 2601 Meacham Boulevard, Fort Worth, Texas 76193-0650. Telephone: (817) 222-5614. E-mail: ben.guttery@faa.gov. Fax: (817) 222-5989.

The request to release property may be reviewed in person at this same location.

SUPPLEMENTARY INFORMATION: The FAA invites public comment on the request to release property at Pearland Regional Airport under the provisions of Title 49, United States Code, section 47153.

On September 15, 2005, the FAA determined that the request to release property at the Pearland Regional Airport, submitted by the airport, met the procedural requirements of the Federal Aviation Regulations, part 155.

The following is a brief overview of the request:

Pearland Regional Airport requests the release of 2.804 acres of non-aeronautical use airport property. The land was one of several parcels acquired by the airport with an Airport Improvement Program (AIP) grant. The land will be traded for the like amount in a nearby runway protection zone.

Any person may inspect the request in person at the FAA office listed above under FOR FURTHER INFORMATION CONTACT.

In addition, any person may, upon request, inspect the application, notice and other documents relevant to the application in person at the Pearland Regional Airport in Pearland, Texas, telephone number 281-482-7751.

Issued in Fort Worth, Texas on September 15, 2005.
Kelvin L. Solco,
Manager, Airports Division.

[FR Doc. 05-20631 Filed 10-13-05; 8:45 am]

BILLING CODE 4910-13-M